DEPARTMENT OF ENERGY

Federal Energy Regulatory Commission

Combined Notice of Filings #2

Take notice that the Commission received the following electric corporate filings:

Docket Numbers: EC14-13-000.

Applicants: Portland General Electric Company, BA Leasing BSC, LLC, Fale-Safe Incorporated.

Description: Application of Portland General Electric Company, BA Leasing BSC, LLC and Fale-Safe, Incorporated under FPA Section 203 and Request for Expedited Consideration.

Filed Date: 10/24/13.

Accession Number: 20131024-5085.

Comments Due: 5 p.m. ET 11/14/13.

Take notice that the Commission received the following electric rate filings:

Docket Numbers: ER12-911-007.

Applicants: CPV Sentinel, LLC.

Description: Notice of Non-Material Change in Status of CPV Sentinel.

Filed Date: 10/24/13.

Accession Number: 20131024-5078.

Comments Due: 5 p.m. ET 11/14/13.

Docket Numbers: ER13-1422-005.

Applicants: Ebensburg Power Company.

Description: Inquiry Response to be effective 5/12/2013.

Filed Date: 10/24/13.

Accession Number: 20131024-5074.

Comments Due: 5 p.m. ET 11/14/13.

Docket Numbers: ER13-2334-001.

Applicants: Midcontinent Independent System Operator, Inc., Alliant Energy Corporate Services, Inc.

Description: Midcontinent Independent System Operator, Inc. submits 10-24-2013 SA 6001 Deficiency Resp Interstate-ITC Att NN to be effective 9/24/2013.

Filed Date: 10/24/13.

Accession Number: 20131024-5081.

Comments Due: 5 p.m. ET 11/14/13.

Docket Numbers: ER14-170-000.

Applicants: Midcontinent Independent System Operator, Inc.

Description: 10-23-2013 Attachment C Filing to be effective 12/22/2013.

Filed Date: 10/24/13.

Accession Number: 20131024-5000.

Comments Due: 5 p.m. ET 11/14/13.

Docket Numbers: ER14-172-000.

Applicants: ISO New England Inc.

Description: Conforming Sections to Approved Language to be effective 9/1/2013.

Filed Date: 10/24/13.

Accession Number: 20131024-5004.

Comments Due: 5 p.m. ET 11/14/13.

Docket Numbers: ER14-173-000.

Applicants: Southwest Power Pool, Inc.

Description: 2198R12 Kansas Power Pool NITSA and NOA to be effective 10/1/2013.

Filed Date: 10/24/13.

Accession Number: 20131024-5025.

Comments Due: 5 p.m. ET 11/14/13.

Docket Numbers: ER14-174-000.

Applicants: Southwest Power Pool, Inc.

Description: 1636R12 Kansas Electric Power Cooperative, Inc. NITSA and NOA to be effective 10/1/2013.

Filed Date: 10/24/13.

Accession Number: 20131024-5027.

Comments Due: 5 p.m. ET 11/14/13.

Docket Numbers: ER14-175-000.

Applicants: Midcontinent Independent System Operator, Inc.

Description: 10-24-2013 SA 1891 Termination NSP-Stoneray Amended GIA to be effective 10/21/2013.

Filed Date: 10/24/13.

Accession Number: 20131024-5036.

Comments Due: 5 p.m. ET 11/14/13.

Docket Numbers: ER14-176-000.

Applicants: Southwest Power Pool, Inc.

Description: 1765R7 KCP&L-GMO NITSA and two NOAs to be effective 10/1/2013.

Filed Date: 10/24/13.

Accession Number: 20131024-5054.

Comments Due: 5 p.m. ET 11/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2013.
Nathaniel J. Davis, Sr.,
Deputy Secretary.

[FR Doc. 2013-26093 Filed 10-31-13; 8:45 am]

BILLING CODE 6717-01-P